DEPARTMENT OF HEALTH AND HUMAN SERVICES

National Committee on Vital and Health Statistics: Meeting

Pursuant to the Federal Advisory Committee Act, the Department of Health and Human Services (HHS) announces the following advisory committee hearing.

Name: National Committee on Vital and Health Statistics (NCVHS), Full Committee Meeting.

Date and Times: Wednesday, June 5, 2019: 9:00 a.m.-5:00 p.m. (EST), Thursday, June 6, 2019: 8:30 a.m.-3:00 p.m. (EST)

Place: U.S. Department of Health and Human Services, Hubert H. Humphrey Building, 200 Independence Avenue SW, Rm. 505A, Washington, DC 20201.

Status: Open.

Purpose: At the June 5-6, 2019 meeting, the Committee will deliberate draft recommendations for the HHS Secretary, move forward on activities outlined in the NCVHS 2019 workplan, and hold discussions on several health data policy topics. Anticipated action items during this meeting include a letter that outlines recommendations to the Secretary and an accompanying report focused on a framework for health information privacy and security.

Specifically, the Privacy, Confidentiality and Security Subcommittee will provide an update to the full Committee regarding its working meeting held in March 2019 focused on health information privacy and security beyond the scope of HIPAA. This will include discussion of a draft report that will lay out a framework for extending basic protections for health information privacy and security, a result of two years of NCVHS hearings and deliberations, to understand the environment and consider what might be a workable framework that supports innovative use of health information to advance health and wellness and reduces administrative burden, while protecting the rights of information subjects. Together with this draft report, the Subcommittee plans to present a draft set of recommendations to the HHS Secretary based on the framework put forth in the report for full Committee deliberation.

The Subcommittee on Standards will review the timeline of its ICD-11 evaluation project and discuss any refinements that result from exploration of existing research on the impact of the transition to ICD-10, ICD-10-CM, and ICD-10-PCS. The Subcommittee will update the full Committee regarding progress on plans for an August expert roundtable meeting, which will focus on identifying research questions HHS could address to evaluate benefit and cost of the upcoming transition from ICD-10 to ICD-11 for mortality and morbidity. The Subcommittee will report on continued progress on the elements of a Predictability Roadmap in follow up to its December 2018 hearing—the current focus will be on evaluating the function and purpose of the Designated Standards Maintenance Organizations (DSMOs) in light of changes in the health care standards environment and the need for harmonization of administrative and clinical standards. Finally, the Subcommittee anticipates continuing discussion and possible activities in collaboration with the Office of the National Coordinator for Health Information and Technology (ONC) regarding the opportunity for burden reduction through convergence of administrative and clinical data standards using the prior authorization transaction as a use-case.

The Subcommittee on Population Health will provide an update on its work to address community data needs, including use-cases, for the full Committee to consider providing as input to the Federal Data Strategy. The Committee will further refine the remainder of its 2019 workplan and discuss potential options moving into fiscal year 2020.

The times and topics are subject to change. Please refer to the posted agenda for any updates.

Contact Persons For More Information: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS website: www.ncvhs.hhs.gov, where further information including an agenda and instructions to access the broadcast of the meeting will also be posted.

Should you require reasonable accommodation, please contact the CDC Office of Equal Employment Opportunity on (770) 488-3210 as soon as possible.

Dated: April 11, 2019.
Sharon Arnold,
Associate Deputy Assistant Secretary for Planning and Evaluation, Science and Data Policy, Office of the Assistant Secretary for Planning and Evaluation.

[FR Doc. 2019-07709 Filed 4-16-19; 8:45 am]

BILLING CODE 4151-05-P